DEPARTMENT OF HEALTH AND HUMAN SERVICES

Administration for Children and Families

Proposed Information Collection Activity; Comment Request

Title: Understanding Urban Indians' Interactions with ACF Programs and Services.

OMB No.: New Collection.

Description: As part of the “Understanding Urban Indians' Interactions with ACF Programs and Services” research study, site visits will be conducted to three to five urban areas with a high percentage of Indians within the population, including Anchorage, Alaska. Members of the research study team will utilize a field discussion guide to collect information from staff members at relevant programs and organizations (e.g., American Indian Organizations, social service agencies serving urban Indians) in these areas.

The goal of this information collection is to assess the challenges and context for family self-sufficiency of urban Indians and their interactions with services and programs offered by ACF. The information gathered will help to generate recommendations and action items for ACF in seeking to better understand and meet the needs of the urban Indian population.

Respondents: Information will be collected by members of the research study team from staff members at relevant programs and organizations (e.g., American Indian Organizations, social service agencies serving urban Indians) in three to five urban areas with a high percentage of Indians within the population, including Anchorage, Alaska. It is anticipated that up to 9 staff members at each program or organization will be interviewed, for a total of up to 27 interviews annually.

Annual Burden Estimates
Instrument | Annual number of respondents | Number of responses per respondent | Average burden hours per response | Total annual burden hours
Field discussion guide | 27 | 1 | 1.5 | 40.5

Estimated Total Annual Burden Hours: The estimated total annual burden hours is 40.5 hours.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollectionPacf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 3, 2011.
Steven M. Hanmer,
Reports Clearance Officer.

[FR Doc. 2011-20069 Filed 8-9-11; 8:45 am]

BILLING CODE 4184-09-M